SMALL BUSINESS ADMINISTRATION

Monroe Capital Corporation SBIC, LP License No. 05/05-0314; Notice Seeking Exemption Under Section 312 of the Small Business Investment Act, Conflicts of Interest

Notice is hereby given that Monroe Capital Corporation SBIC, LP, 311 S. Wacker Drive, Suite 6400, Chicago, IL 60606, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). Monroe Capital Corporation SBIC, LP proposes to provide debt financing to Alliance Time Holdings, LLC, 545 Broadway, Suite 100, Brooklyn, NY 11206, and debt and equity financing to Bookit Operating LLC, 14251 Panama City Beach Parkway, Panama City Beach, FL 32413.

These financings are brought within the purview of § 107.730(a)(4) of the Regulations because the proceeds will be used to discharge obligations to an Associate of Monroe Capital Corporation SBIC, LP. Therefore this transaction requires prior SBA exemption.

Notice is hereby given that any interested person may submit written comments on these transactions, within fifteen days of the date of this publication, to the Associate Administrator for Investment, U.S. Small Business Administration, 409 Third Street SW., Washington, DC 20416.

Dated: July 2, 2014.
Javier E. Saade,
Associate Administrator for Office of Investment and Innovation.

[FR Doc. 2014-16611 Filed 7-14-14; 8:45 am]

BILLING CODE 8025-01-P